ENVIRONMENTAL PROTECTION AGENCY

40 CFR Part 141

[FRL-7854-3]

Notice of a Public Meeting To Discuss Research Related to the Stage 2 Disinfectants and Disinfection Byproducts Rule

AGENCY: Environmental Protection Agency.

ACTION: Proposed rule; notice of a public meeting.

SUMMARY: The Environmental Protection Agency (EPA) is holding a public meeting to discuss recent research related to the proposed Stage 2 Disinfectants and Disinfection Byproducts Rule (DBPR).

DATES: The public meeting will be held from 9 a.m. to 4 p.m., Eastern time, on Tuesday, January 18, 2005.

ADDRESSES: The meeting will be held on the first floor of the East Building of EPA Headquarters in Room 1153. The address is EPA East, 1201 Constitution Ave., NW., Washington, DC.

FOR FURTHER INFORMATION CONTACT: For general information about this meeting, contact Sarah Bahrman by phone at (202) 564-2335, by e-mail at bahrman.sarah@epa.gov, or by mail at: U.S. Environmental Protection Agency, Mail Code 4607M, 1200 Pennsylvania Ave., NW., Washington, DC 20460. For technical inquiries regarding the Stage 2 Disinfectants and Disinfection Byproducts Rule, contact Tom Grubbs at (202) 564-5262, or by e-mail: grubbs.thomas@epa.gov.

SUPPLEMENTARY INFORMATION: The purpose of the public meeting is to discuss recent research related to the Stage 2 DBPR. EPA proposed the Stage 2 DBPR on August 18, 2003 (68 FR 49547) and is currently working on the final rule. The proposed Stage 2 DBPR was developed based on recommendations from a Federal Advisory Committee, which consisted of a broad range of stakeholders. EPA will build on this collaborative process by way of this public meeting.

Research areas and examples of recent studies that the Agency plans to discuss at the meeting are listed at the end of this notice. This is not a comprehensive list of all recent disinfection byproduct research. A longer list of recent research can be found on the Agency's Web site at http://www.epa.gov/safewater/stage2/index.html. All copyrighted studies are available only in hard copy form and are accessible at the Water Docket in the EPA Docket Center, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Water Docket is (202) 566-2426.

Attendees will have an opportunity to make oral remarks at specific points during the meeting. EPA also welcomes written remarks received by February 17, 2005, which can be sent to Sarah Bahrman by e-mail or by mail at the address listed in the previous section.

The main entrance to the building on Constitution Avenue is a short distance from the Federal Triangle Metro Station, which is located on 12th Street between Constitution and Pennsylvania Avenues and is served by the Blue and Orange Lines. Please note that attendees will be required to pass through security checks at the front desk and obtain a visitor's badge. All attendees will need to present a photo I.D. The building is accessible to persons using wheelchairs or scooters. Any person needing special accommodations at this meeting, including wheelchair access, should contact Sarah Bahrman (contact information provided in the previous section) at least five business days before the meeting so that the Agency can make appropriate arrangements.

Examples of Recent Research

Reproductive and Developmental Epidemiology

Cedergren, M.I., A.J. Selbing, O. Lofman, et al. 2002. Chlorination byproducts and nitrate in drinking water and risk for congenital cardiac defects. Environmental Research. 89(2): 124-130

Dodds, L., W. King, A.C. Allen, B.A. Armson, D.B. Deshayne and C. Nimrod. 2004. Trihalomethanes in public water supplies and risk of stillbirth. Epidemiology. 15(2):179-186

Fenster L., K. Waller, G. Windham, T. Henneman, M. Anderson, P. Mendola, J.W. Overstreet and S.H. Swan. 2003. Trihalomethane levels in home tap water and semen quality. Epidemiology. 14:650-658

Hwang B.F. and J.J.K. Jaakkola. 2003. Water chlorination and birth defects: A systematic review and meta-analysis. Archives of Environmental Health. 58(2):83-91

Infante-Rivard, C. 2004. Drinking water contaminants, gene polymorphisms, and fetal growth. Environmental Health Perspectives. 112(11):1213-1216

Shaw, G.M., D. Ranatunga, T. Quach, E. Neri, A. Correa and R.R. Neutra. 2003. Trihalomethane exposure from municipal water supplies and selected congenital malformations. Epidemiology. 14(2):191-199

Toledano, M.B., M.J. Nieuwenhuijsen, N. Best, H. Whitaker, P. Hambly, C. de Hoogh, J. Fawell, L. Jarup and P. Elliott. 2004. Relation of trihalomethane concentrations in public water supplies to stillbirth and birth weight in three water regions in England. Environmental Health Perspectives. In Press (Online 21 October 2004)

Wright J.M., J. Schwartz and D.W. Dockery. 2003. Effect of trihalomethane exposure on fetal development. Occup. Environ. Med. Mar;60(3):173-80

Wright, J.M., J. Schwartz and D.W. Dockery. 2004. The effect of disinfection by-products and mutagenic activity on birth weight and gestational duration. Environmental Health Perspectives. 112(8):920-925

Yang, C.-Y. 2004. Drinking water chlorination and adverse birth outcomes in Taiwan. Toxicology. 198(2004): 249-254

Reproductive and Developmental Toxicology

Bielmeier, S.R., D.S. Best and M.G. Narotsky. 2004. Serum hormone characterization and exogenous hormone rescue of bromodichloromethane-induced pregnancy loss in the F344 rat. Toxicol. Sci. 77(1):101-108

Bodensteiner K.J., H.R. Sawyer, C.L. Moeller, C.M. Kane, K.-Y.F. Pau, G.R. Klinefelter and D.N.R. Veeramachaneni. 2004. Chronic exposure to dibromoacetic acid, a water disinfection byproduct, diminishes primordial follicle populations in the rabbit. Toxicological Sciences. 80(1):83-91

Goldman, J.M. and A.S. Murr. 2003. Dibromoacetic acid-induced elevations in circulating estradiol: effects in both cycling and ovariectomized/steroid-primed female rats. Reproductive Toxicology. 17(5):585-592

Klinefelter, G.R., L.F. Strader, J.D. Suarez, N.L. Roberts, J.M. Goldman and A.S. Murr. 2004. Continuous exposure to dibromoacetic acid delays pubertal development and compromises sperm quality in the rat. Toxicological Sciences. 81(2):419-429

Klinefelter, G.R., L.F. Strader, J.D. Suarez and N.L. Roberts. 2002. Bromochloroacetic acid exerts qualitative effects on rat sperm: implications for a novel biomarker. Toxicological Sciences. 68:164-173

Tully, D.B., J.C. Luft, J.C. Rockett, H. Ren, J.E. Schmid, C.R. Wood and D.J. Dix. 2004. Reproductive and genomic effects in testes from mice exposed to the water disinfectant byproduct bromochloroacetic acid. Reproductive Toxicology. In Press (Online 2 September 2004)

Health Effects Reviews

Graves, C.G., G.M. Matanoski and R.G. Tardiff. 2001. Weight of evidence for an association between adverse reproductive and developmental effects and exposure to disinfection by-products: a critical review. Regulatory Toxicology and Pharmacology. 34:103-124

Cancer Epidemiology

Chevrier, C., B. Junod and S. Cordier. 2004. Does ozonation of drinking water reduce the risk of bladder cancer? Epidemiology. 15(5):605-614

Goebell, P.J., C.M. Villanueva, A.W. Rettenmeier, et al. 2004. Environmental exposure, chlorinated drinking water, and bladder cancer. World Journal of Urology. 21(6):424-432

Ranmuthugala, G., L. Pilotto, W. Smith, T. Vimalasiri, K. Dear and R. Douglas. 2003. Chlorinated drinking water and micronuclei in urinary bladder epithelial cells. Epidemiology. 14(5):617-622

Villanueva, C., M. Kogevinas and J. Grimalt. 2001. Chlorination of drinking water in Spain and bladder cancer. Gac Sanit. 15(1):48-53

Villanueva, C.M., K.P. Cantor, S. Cordier, J.J.K. Jaakkola, W.D. King, C.F. Lynch, S. Porru and M. Kogevinas. 2004. Disinfection byproducts and bladder cancer a pooled analysis. Epidemiology. 15(3):357-367

Cancer and Other Toxicology

Echigo, S., S. Itoh, T. Natsui, T. Araki and R. Ando. 2004. Contribution of brominated organic disinfection by-products to the mutagenicity of drinking water. Water Sci Technol. 50(5):321-8

George, M.H., G.R. Olson, D. Doerfler, et al. 2002. Carcinogenicity of bromodichloromethane administered in drinking water to male F344/N rats and B6C3F(1) mice. International Journal of Toxicology. 21(3):219-230

Geter, D.R., M.H. George, T.M. Moore, et al. 2004. Vehicle and mode of administration effects on the induction of aberrant crypt foci in the colons of male F344/N rats exposed to bromodichloromethane. Journal of Toxicology and Environmental Health—Part A. 67(1):23-29

Hooth, M.J., K.S. McDorman, S.D. Hester, M.H. George, L.R. Brooks, A.E. Swank and D.C. Wolf. 2002. The carcinogenic response of Tsc2 mutant Long-Evans (Eker) rats to a mixture of drinking water disinfection by-products was less than additive. Toxicol Sci. 69(2):322-31

McDorman, K.S., M.J. Hooth, T.B. Starr and D.C. Wolf. 2003. Analysis of preneoplastic and neoplastic renal lesions in Tsc2 mutant Long-Evans (Eker) rats following exposure to a mixture of drinking water disinfection byproducts. Toxicology. 187(1):1-12

McDorman, K.S., S. Chandra, M.J. Hooth, S.D. Hester, R. Schoonhoven and D.C. Wolf. 2003. Induction of transitional cell hyperplasia in the urinary bladder and aberrant crypt foci in the colon of rats treated with individual and a mixture of drinking water disinfection by-products. Toxicol Pathol. 31(2):235-242

Minear, R.A. and M.J. Plewa. 2003. Comparative genotoxicity assessment of DBPs in drinking water. Denver, Colo.: AwwaRF

Moser, V.C., P.M. Phillips, A.B. Levine, K.L. McDaniel, R.C. Sills, B.S. Jortner and M.T. Butt. 2004. Neurotoxicity produced by dibromoacetic acid in drinking water of rats. Toxicological Sciences. 79(1):112-122

Pereira, M.A., W. Wang, P.M. Kramer and L. Tao. 2004. Prevention by Methionine of Dichloroacetic Acid Induced Liver Cancer and DNA Hypomethylation in Mice. Toxicological Sciences. 77(2):243-248

Pereira, M.A., P.M. Kramer, P.B. Conran and L.H. Tao. 2001. Effect of chloroform on dichloroacetic acid and trichloroacetic acid-induced hypomethylation and expression of the c-myc gene and on their promotion of liver and kidney tumors in mice. Carcinogenesis. 22(9):1511-1519

Plewa, M.J., E.D. Wagner, S.D. Richardson, A.D. Thruston Jr., Y.-T. Woo and A.B. McKague. 2004. Chemical and biological characterization of newly discovered iodo-acid drinking water disinfection by-products. Environmental Science & Technology. 38(18): 4713-4722

Plewa, M.J., S.D. Richardson and P. Jazwierska. 2004. Halonitromethane drinking water disinfection byproducts: chemical characterization and mammailian cell cytotoxicity and genotoxicity. Environmental Science & Technology. 38(1): 62-68

Poon, R., I. Chu, G. LeBel, A. Yagminas and V.E. Valli. 2003. Effects of dibromoacetonitrile on rats following 13-week drinking water exposure. Food Chem Toxicol. 41(8):1051-61

Sehata, S., T. Maejima, M. Watanabe, S. Ogata, T. Makino, K. Tanaka, S. Manabe and M. Takaoka. 2002. Twenty-six-Week carcinogenicity study of chloroform in CB6F1 rasH2-transgenic mice. Toxicol Pathol. 30(3):328-38

Torti, V.R., A.J. Cobb, V.A. Wong, et al. 2002. Induction of micronuclei in wild-type and p53(+/-) transgenic mice by inhaled bromodichloromethane. Mutation Research-Genetic Toxicology and Environmental Mutagenesis. 520(1-2):171-178

Cessation Lag

Brennan, P., O. Bogillot, S. Cordier, E. Greiser, W. Schill, P. Vineis, G. Lopez-Abente, A. Tzonou, J. Chang-Claude, U. Bolm-Audorff, K.H. Jockel, F. Donato, C. Serra, J. Wahrendorf, M. Hours, A. T'Mannetje, M. Kogevinas and P. Boffetta. 2000. Cigarette smoking and bladder cancer in men: a pooled analysis of 11 case-control studies. International Journal of Cancer. 86(2):289-294

Brennan, P., O. Bogillot, E. Greiser, J. Chang-Claude, J. Wahrendorf, S. Cordier, K.H. Jockel, G. Lopez-Abente, A. Tzonou, P. Vineis, F. Donato, M. Hours, C. Serra, U. Bolm-Audorff, W. Schill, M. Kogevinas and P. Boffetta. 2001. The contribution of cigarette smoking to bladder cancer in women (pooled European data). Cancer Causes and Controls. 12(5):411-417

Hartge, P., D. Silverman, R. Hoove, C. Schairer, R. Altman, D. Austin, K. Cantor, M. Child, C. Key and L.D. Marrett. 1987. Changing cigarette habits and bladder cancer risk: a case-control study. J Natl Cancer Inst. 78(6):1119-1125

Zeegers, M.P., R.A. Goldbohm and P.A. van den Brandt. 2002. A prospective study on active and environmental tobacco smoking and bladder cancer risk (The Netherlands). Cancer Causes Control. 13(1):83-90

Exposure Routes

Miles, A.M., P.C. Singer, D.L. Ashley, M.C. Lynberg, P. Mendola, P.H. Langlois and J.R. Nuckols. 2002. Comparison of Trihalomethanes in Tap Water and Blood. Environ. Sci. Technology. 36(8):1692-1698

Formation of Disinfection Byproducts and Occurrence Studies

Bichsel, Y. and D. von Gunten. 2000. Formation of iodo-trihalomethanes during disinfection and oxidation of iodide-containing waters. Environ. Sci. Technol. 34:2784-2791

Cancho, B., F. Ventura, M. Galceran, A. Diaz and S. Ricart. 2000. Determination, synthesis and survey of iodinated trihalomethanes in water treatment processes. Wat. Res. 34(13):3380-3390

Chellam, S. and S.W. Krasner. 2001. Disinfection byproduct relationships and speciation in chlorinated nanofiltered waters. Environmental Science & Technology. 35(19):3988-3999

Choi, J. and R.L. Valentine. 2002. A kinetic model of N-nitrosodimethylamine (NDMA) formation during water chlorination/chloramination. Journal of Water Science and Technology. 46(3):65-71

Choi, J. and R.L. Valentine. 2002. Formation of N-nitrosodimethylamine (NDMA) from reaction of monochloramine: a new disinfection by-product. Water Research. 36(4):817-824

Choi, J., S.E. Duirk and R.L. Valentine. 2002. Mechanistic studies of N-nitrosodimethylamine (NDMA) formation in chlorinated drinking water. Journal of Environmental Monitoring. 4(2):249-252

Choi, J. and R.L. Valentine. 2003. N-nitrosodimethylamine formation by free-chlorine-enhanced nitrosation of dimethylamine. Environmental Science & Technology. 37(21):4871-4876

Gerecke, A.C. and D.L. Sedlak. 2003. Precursors of N-nitrosodimethylamine in natural waters. Environ. Sci. Technol. 37(7):1331-1336

Mitch, W.A. and D.L. Sedlak. 2002. Formation of N-nitrosodimethylamine (NDMA) from dimethylamine during chlorination. Environmental Science & Technology. 36(4):588-595

Richardson, S.D., A.D. Thruston, Jr., C. Rav-Acha, L. Groisman, I. Popilevsky, O. Juraev, V. Glezer, A.B. McKague, M.J. Plewa and E.D. Wagner. 2003. Tribrompyrrole, brominated acids, and other disinfection byproducs produced by disinfection of drinking water rich in bromide. Environmental Science & Technology. 37(17):3782-3793

Singer, P.C., H.S. Weinberg, K. Brophy, L. Liang, M. Roberts, I. Grisstede, S. Krasner, H. Baribeau, H. Arora, and I. Najm. 2002. Relative dominance of haloacetic acids and trihalomethanes in treated drinking water. Denver, Colo.: AwwaRF

Speitel, G.E., P.G. Pope, M.R. Collins, and M. Martin-Doole. Disinfection by-product formation and control during chloramination. Denver, Colo.: AwwaRF

Von Gunten, U. 2003. Ozonation of drinkingwater: Part II. Disinfection and by-product formation in presence of bromide, iodide or chlorine. Water Research. 37:1469-1487

Weinberg, H.S., S.W. Krasner, S.D. Richardson and A.D. Thruston, Jr. 2002. The Occurrence of Disinfection By-Products (DBPs) of Health Concern in Drinking Water: Results of a Nationwide DBP Occurrence Study, U.S. Environmental Protection Agency, National Exposure Research Laboratory, Athens, GA. EPA/600/R-02/068. http://www.epa.gov/athens/publications/ EPA600R02068.pdf

Westerhoff, P. and H. Mash. 2002. Dissolved organic nitrogen in drinking water supplies: a review. Journal of Water Supply Research and Technology-Aqua. 51(8):415-448

Dated: December 17, 2004.
Clare Donaher,
Acting Director, Office of Ground Water and Drinking Water.

[FR Doc. 04-28094 Filed 12-22-04; 8:45 am]

BILLING CODE 6560-50-P